DEPARTMENT OF ENERGY

Federal Energy Regulatory Commission

Combined Notice of Filings #1

April 3, 2008.

Take notice that the Commission has received the following Natural Gas Pipeline Rate and Refund Report filings:

Docket Numbers: RP99-176-160.

Applicants: Natural Gas Pipeline Company of America.

Description: Natural Gas Pipeline Company of America LLC submits the Third Revised Sheet 26U to FERC Gas Tariff, Sixth Revised Volume 1, to be effective 4/1/08.

Filed Date: 04/01/2008.

Accession Number: 20080402-0085.

Comment Date: 5 p.m. Eastern Time on Monday, April 14, 2008.

Docket Numbers: RP99-301-201.

Applicants: ANR Pipeline Company.

Description: ANR Pipeline Company submits an amendment to one Rate Schedule FSS negotiated rate agreement between ANR and Wisconsin Gas LLC.

Filed Date: 04/01/2008.

Accession Number: 20080402-0080.

Comment Date: 5 p.m. Eastern Time on Monday, April 14, 2008.

Docket Numbers: RP99-301-202.

Applicants: ANR Pipeline Company.

Description: ANR Pipeline Company submits an amendment to Rate Schedule FSS negotiated rate agreements between ANR and Wisconsin Public Service Corp.

Filed Date: 04/01/2008.

Accession Number: 20080402-0081.

Comment Date: 5 p.m. Eastern Time on Monday, April 14, 2008.

Docket Numbers: RP99-301-203.

Applicants: ANR Pipeline Company.

Description: ANR Pipeline Company submits an amendment to Rate Schedule FSS negotiated rate agreement between ANR and Wisconsin Electric Power Co.

Filed Date: 04/01/2008.

Accession Number: 20080402-0082.

Comment Date: 5 p.m. Eastern Time on Monday, April 14, 2008.

Docket Numbers: RP99-301-204.

Applicants: ANR Pipeline Company.

Description: ANR Pipeline Company submits Rate Schedule FTS-1 and Gathering negotiated rate service agreement between ANR and Eagle Energy Partners I, LP etc.

Filed Date: 04/01/2008.

Accession Number: 20080402-0083.

Comment Date: 5 p.m. Eastern Time on Monday, April 14, 2008.

Docket Numbers: RP99-301-205.

Applicants: ANR Pipeline Company.

Description: ANR Pipeline Company submits amendment to Rate Schedule FSS negotiated rate agreement between ANR and Wisconsin Electric Power Co.

Filed Date: 04/01/2008.

Accession Number: 20080402-0086.

Comment Date: 5 p.m. Eastern Time on Monday, April 14, 2008.

Docket Numbers: RP99-301-206.

Applicants: ANR Pipeline Company.

Description: ANR Pipeline Company submits amendment to Rate Schedule FTS-1 negotiated rate agreements and Rate Schedule ETS negotiated rate agreement between ANR and Wisconsin Public Service Corporation.

Filed Date: 04/01/2008.

Accession Number: 20080402-0087.

Comment Date: 5 p.m. Eastern Time on Monday, April 14, 2008.

Docket Numbers: RP00-426-033.

Applicants: Texas Gas Transmission, LLC.

Description: Texas Gas Transmission, LLC submits Original Sheet 55B et al. to FERC Gas Tariff, Second Revised Volume 1 etc.

Filed Date: 03/31/2008.

Accession Number: 20080402-0088.

Comment Date: 5 p.m. Eastern Time on Monday, April 14, 2008.

Docket Numbers: RP02-534-006.

Applicants: Guardian Pipeline, LLC.

Description: Guardian Pipeline LLC submits First Revised Sheet 7 to FERC Gas Tariff, Original Volume 1, to become effective 4/1/08.

Filed Date: 03/28/2008.

Accession Number: 20080401-0039.

Comment Date: 5 p.m. Eastern Time on Wednesday, April 09, 2008.

Docket Numbers: RP06-407-009.

Applicants: Gas Transmission Northwest Corporation.

Description: Gas Transmission Northwest Corp's CD that contains the Rate Case Settlement Refund Report, Cover Letter, and Appendices A-E.

Filed Date: 03/28/2008.

Accession Number: 20080328-4005.

Comment Date: 5 p.m. Eastern Time on Wednesday, April 09, 2008.

Docket Numbers: RP06-595-010.

Applicants: Discovery Gas Transmission LLC.

Description: Discovery Gas Transmission LLC submits the Tenth Revised Sheet 22 et al. to FERC Gas Tariff, Original Volume 1 to become effective 4/1/08.

Filed Date: 04/01/2008.

Accession Number: 20080402-0084.

Comment Date: 5 p.m. Eastern Time on Monday, April 14, 2008.

Docket Numbers: RP08-267-001.

Applicants: Texas Eastern Transmission LP.

Description: Texas Eastern Transmission, LP submits Notice of Withdrawal of First Revised Sheet 381 of its FERC Gas Tariff, Seventh Revised Volume 1.

Filed Date: 03/31/2008.

Accession Number: 20080401-0197.

Comment Date: 5 p.m. Eastern Time on Wednesdays, April 9, 2008.

Docket Numbers: RP08-301-000.

Applicants: Vector Pipeline L.P.

Description: Vector Pipeline, LP submits its Annual Fuel Use Report for the period 1/1/07 through 12/31/07 pursuant to Section 154.502 of the Commission's Regulations.

Filed Date: 03/31/2008.

Accession Number: 20080402-0100.

Comment Date: 5 p.m. Eastern Time on Monday, April 14, 2008.

Docket Numbers: RP08-302-000.

Applicants: Avista Corporation.

Description: Avista Corp submits Third Revised Sheet 3 et al. to its FERC Gas Tariff, Original Volume 2, to become effective April 30, 2008.

Filed Date: 03/31/2008.

Accession Number: 20080402-0089.

Comment Date: 5 p.m. Eastern Time on Monday, April 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-7425 Filed 4-8-08; 8:45 am]

BILLING CODE 6717-01-P